DEPARTMENT OF STATE

[Public Notice 4551]

Bureau of Educational and Cultural Affairs Request for Grant Proposals: Women's Political, Educational, and Economic Development for Afghanistan

SUMMARY: The Office of Citizen Exchanges of the Bureau of Educational and Cultural Affairs, United States Department of State, on behalf of the U.S.-Afghan Women's Council and in cooperation with the Office of International Women's Issues of the U.S. Department of State, announces an open competition for grants to support a series of exchanges and training programs promoting “Women's Political, Educational, and Economic Development in Afghanistan.” U.S. public and private non-profit organizations meeting the provisions described in Internal Revenue Code section 26 U.S.C. 501(c)(3) may submit proposals to develop and implement exchanges and training programs involving participants from Afghanistan, including training conducted in Afghanistan. These U.S. organizations should have a current presence in Afghanistan, or experience working in Afghanistan, and work in conjunction with Afghan NGO partners. This competition is in direct support of the work plan developed by the U.S.-Afghan Women's Council, which seeks to carry out training programs in partnership with provincial Women's Resource Centers. Up to five grants, not exceeding $150,000 each, may be awarded. Depending on the types and number of proposals received, more than one award may be made in some areas of focus and no awards may be made in others. Proposals that clearly demonstrate significant cost-sharing—with 50% of the amount requested from ECA as the preferred target—will be judged more competitive. For example, an organization requesting $150,000 would be more competitive if the proposal presents at least $75,000 in allowable cost sharing. A maximum of 10 Afghans traveling to the U.S. will be permitted for each grant awarded under this competition, and all individuals traveling to the U.S. should use their U.S. experience directly for carrying out programs in Afghanistan after their return home. Deadline for submissions is Friday, February 6, 2004.

Important Note: This Request for Grant Proposals contains language in the “Shipment and Deadline for Proposals” section that is significantly different from that used in the past. Please pay special attention to procedural changes as outlined.

Program Information

Overview: On January 28, 2002, Presidents Bush and Karzai announced the creation of the U.S.-Afghan Women's Council to promote private/public partnerships between U.S. and Afghan institutions and to mobilize private resources to ensure that Afghan women are provided access to the education and skills to which they had no access during the years of Taliban misrule. The Council is co-chaired by the Under Secretary of State for Global Affairs, the Afghan Minister of Women's Affairs and the Minister of Foreign Affairs. The Council is staffed in the United States by the State Department's Office of International Women's Issues. The U.S.-Afghan Women's Council seeks to help integrate women into Afghan society and to prepare them for positions of leadership and management. The priority themes listed below reflect the goals and work plan of the Council, and the exchange and training programs being funded will be carried out as programs of the U.S.-Afghan Women's Council. Please refer to the following Web site for more information on the Council: http://usawc.state.gov.

The Office of Citizen Exchanges of the Bureau of Educational and Cultural Affairs (ECA) consults with and supports American public and private nonprofit organizations in developing and implementing multi-phased, often multi-year, exchanges of professionals, community leaders, scholars and academics, public policy advocates, etc. These exchanges address issues of critical importance to both the United States and to the countries with which the exchanges will be conducted. They encourage substantive and cooperative interaction among counterparts, and they entail both theoretical and experiential learning for all participants. A primary goal is the development of sustained, international institutional and individual linkages. In addition to providing a context for professional development and collaborative problem-solving, these projects are intended to introduce participants to one another's political, social, and economic structures, facilitating improved communication and enhancing mutual understanding.

Special Note: The Afghan Ministry of Women's Affairs is establishing Women's Resource Centers throughout Afghanistan. The US-Afghan Women's Council and the Department of State are dedicated to supporting the work of these centers. All proposals submitted in response to this RFGP must feature activities organized in close cooperation with and promoting the work of these centers, including training activities taking place inside these centers in provinces outside of Kabul. All proposals must display an understanding of the work of the Afghan Ministry of Women's Affairs and the Women's Resource Centers and discuss how proposed exchange activities will further the work of these centers. To the extent possible, exchange and training activities in Afghanistan will take place at or center around the Resource Centers in provinces where such Centers have been established. Proposals should also reflect a clear understanding of the work of USAID in support of the Centers and demonstrate how exchanges will complement and further that support.

The Office of Citizen Exchanges solicits proposals for exchange projects that involve the following priority themes:

1. Women's Leadership

Proposals should focus on promoting women's political leadership by strengthening the capacity of grassroots women's organizations to develop the skills of current and future women political leaders and by compiling a repertoire of practical material in the local language(s) for use in workshops, mock campaigns and elections, educational sessions, or other activities. Proposals must reflect a practical knowledge of the political and legislative environment in the partner country. Projects may include components listed in “Guidelines” below and may focus on the following:

• Workshops for Political Leaders might include such topics as public speaking, message development, leadership, campaign management, accountability and constituencies, consensus building, surveying, polling, advocacy, voter outreach, networking, working with the media, and fundraising, with the goal of increasing the effectiveness of women's participation in the political process.

• Women's Political Awareness Campaigns should educate women on the political process with the goal of increasing their participation in government and politics. Awareness campaigns should be jointly developed and grass-roots, get-out-the-vote campaigns conducted with partner organizations. These should reach the widest possible audience in various regions of the country, in large and small cities, and in towns and villages, with the goal of increasing women's participation in the political process.

• Women's Human Rights Education should improve women's understanding of human rights issues and the rule of law. Exchanges and training should be jointly conducted by U.S. and Afghan partner organizations and should reach the widest possible audience.

2. Educational Development and Literacy for Women and Girls

Proposals should focus on exchanges and training for educational administrators and community leaders who are actively involved in managing, delivering or promoting education in formal, informal, and non-traditional settings, including accelerated learning programs for out-of-school and hard-to-reach populations, self-study and distance education, and life skill-based, job skill-related, or functional literacy training. Emphasis should be on providing assistance and support to administrators and others promoting education and literacy. Potential topics for activities include, but are not limited to, promoting professional competence in educational methodology and practice, especially in the area of promoting literacy; strengthening local capacity to support education; increasing understanding of the importance of women's and girls' education for the family and for society and public life; developing leadership and enhancing values of civic responsibility; and developing mentoring programs. Only adult professionals or grassroots practitioners who are not being trained as teachers may be selected to travel internationally for exchange activities. Girls and women may take part as students in pilot sessions and other in-country educational activities.

3. Women-Led Small Business Development

Projects should foster the development of local women-led businesses in Afghanistan and create ongoing international partnerships. Project components in the U.S. or in Afghanistan, with examples of possible topics, include: seminars for women considering micro-enterprise activities (e.g. entrepreneurship, management, finance and registration issues); workshops (developing business plans, loan packages, marketing, staff training, appropriate technology); site visits (to chambers of commerce, local governments, women's business associations, small business resource centers); establishment of women's business associations or business resource centers; mentoring; consultancies; internships; job-shadowing; or other activities.

Grant funds may be used to develop or enhance exchanges and training focused on women's business resources and the development of services in Women's Resource Centers, or to further the activities of such a center, but may not be used to furnish new centers. ECA funds may also be used to support women's business associations and regularly published not-for-profit women's business newsletters in the local language and may be used on resources and development of services. No more than $10,000 may be used to purchase computer and/or office equipment. No funds may be used for micro-credit or re-lending activities, though funds may be used for training women considering micro-enterprise activities.

In certain types of program activities, Afghan participants could be linked with U.S. mentors or counterparts with similar work responsibilities in order to ensure ongoing professional interaction. In addition to activities for businesswomen, proposals may include components targeting female heads of households, such as widows, training them to start businesses.

4. Job Skills Training

Job skills training should focus on providing women with practical skills that will have market value and that will better enable them to support their families.

5. NGO Management

NGO management may be addressed as part of the program design, including workshops on NGO management and capacity building for NGOs whose work advances women's political and economic development in civil society. Topics might include strategic planning, volunteer recruitment and management, coalition building, public relations, facilitation training, peer education and outreach, public-private partnerships, information management, and Web site development.

Project Guidelines

Applicants should state expected goals and objectives in the proposal narrative and describe a clear and convincing plan for carrying out project components to fulfill them. Travel costs for a maximum of 10 Afghans per grant will be permitted under this competition.

Suggested activities might include:

1. (If necessary) Initial needs assessment/orientation or training travel by American organizers to develop contacts and relationships with both American Mission officers and counterpart organizations/individuals in the Women's Development Centers in which the exchange activities will be conducted, and to provide initial training for Afghan participants.

2. First training session in Afghanistan (may coincide with needs assessment). American professionals carry out group “train-the-trainer” sessions on the subject of their exchange project, and select no more than 10 outstanding Afghan women participants for further training in the U.S.

3. A U.S.-based program, including orientation for Afghan participants to program purposes and to U.S. society, discussions, site visits, additional training of trainers, or limited internships or job shadowing opportunities.

4. A return visit by American specialists to collaborate with Afghan participants from the U.S.-based program in conducting additional workshops, seminars, or on-site training.

5. Training programs carried out in Afghanistan in Women's Resource Centers led by the Afghans who have received training in the U.S.

6. Distance learning techniques using appropriate technology and activities meant to bridge the digital divide are also encouraged to the extent possible.

This program is not academic in nature. The Office of Citizen Exchanges encourages applicants to be creative and innovative in planning projects. Activities may combine elements of skill enrichment, theoretical orientation, and experiential, community-based initiatives designed to achieve objectives. Activities should provide participants an opportunity to experience each other's culture. Cultural programming may include activities or events hosted by local institutions and home stays with community members.

Projects funded under this competition should enhance partnerships among American and foreign organizations, provide hands-on activities and training sessions with practical materials in the local language, and achieve lasting and sustainable results.

Afghan partner organizations should be identified in the proposal, with project plans developed collaboratively by both the American and Afghan partners. Applicants who have not yet identified local partners but whose proposals reflect significant regional and thematic expertise are also eligible to apply, but priority will be given to organizations that have already developed these links and identified Afghan partner organizations.

Eligibility: U.S. public and private non-profit organizations meeting the provisions described in IRS regulation 26 CFR 1.501(c)(3) are eligible to apply. All proposals will receive equal consideration. U.S. organizations should have an Afghan partner, with the U.S. partner as the principal applicant.

Selection of Participants: Proposals should include a description of an open, merit-based participant selection process for all program components requiring participant selection. A draft application and a sample announcement used for recruitment advertising should be included. For exchange travel to the U.S., priority should be given to participants who have not previously traveled to the United States.

Public Affairs Section Involvement: The Public Affairs Section of the U.S. Embassy (PAS) in Kabul will play an important role in project implementation. PAS Kabul will evaluate project proposals, coordinate planning with the grantee organization and in-country partners, facilitate in-country activities, nominate participants and vet grantee nominations, observe in-country activities when feasible, debrief participants, and evaluate project impact. Applicants should expect to work closely with Embassy PAS in Kabul in selecting participants, and all Afghan exchange participants traveling to the U.S. must be approved by the U.S. Embassy Kabul PAS. PAS Kabul retains the right to nominate participants and to advise the grantee regarding participants recommended by other entities.

PAS Kabul will work with grantee organizations to assist Afghans selected for international travel in obtaining the necessary J-1 visas for entry into the United States. Although project administration and implementation are the responsibility of the grantee, the grantee is expected to inform the PAS in Kabul of its operations and procedures and to coordinate with and involve PAS officers in the development of project activities. The PAS should be consulted regarding country priorities, political and cultural sensitivities, current security concerns, and related logistic and programmatic issues.

Adherence to All Regulations Governing the J Visa

The Office of Citizen Exchanges of the Bureau of Educational and Cultural Affairs is the official program sponsor of exchange programs resulting from this solicitation, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq. The Bureau of Educational and Cultural Affairs places great emphasis on the secure and proper administration of Exchange Visitor (J visa) Programs and adherence by grantee program organizations and program participants to all regulations governing J visa program participant status. Therefore, proposals should explicitly state in writing that the applicant is prepared to assist the Bureau in meeting all requirements governing the administration of Exchange Visitor Programs as set forth in 22 CFR part 62. If the applicant has experience as a designated Exchange Visitor Program Sponsor, the applicant should discuss their record of compliance with 22 CFR part 62 et seq., including the oversight of their Responsible Officers and Alternate Responsible Officers, screening and selection of program participants, provision of pre-arrival information and orientation to participants, monitoring of participants, proper maintenance and security of forms, record-keeping, reporting and other requirements. The Office of Citizen Exchanges of ECA will be responsible for issuing the DS-2019 forms to participants in this program. A copy of the complete regulations governing the administration of Exchange Visitor (J) programs is available at http://exchanges.state.gov or from: United States Department of State, Office of Exchange Coordination and Designation, ECA/EC/ECD—SA-44, Room 734, 301 Fourth Street, SW., Washington, DC 20547, Telephone: (202) 401-9810, FAX: (202) 401-9809.

Budget Guidelines

The Bureau expects to award up to five grants, not exceeding $150,000 each, to support program and administrative costs required to implement exchange programs under this competition. Applicants must submit a comprehensive line-item budget based on guidance provided in the Proposal Submission Instructions (PSI) of the Solicitation Package. Grants awarded to organizations with less than four years of experience in conducting international exchange programs will be limited to $60,000. A maximum of 10 Afghans traveling to the U.S. will be permitted for each grant awarded under this competition. Proposals which clearly demonstrate a significant cost-sharing—with 50% of the amount requested from ECA as the preferred target—will be judged more competitive. For example, an organization requesting $150,000 will be more competitive if the proposal contains at least $75,000 in allowable cost sharing.

Allowable costs include the following:

1. Direct Program Expenses (including general program expenses, such as orientation and program-related supplies, educational materials, traveling campaigns, consultants, interpreters, and room rental; and participant program expenses, such as domestic and international travel and per diem)

2. Administrative Expenses, including indirect costs (i.e. salaries, telephone/fax, and other direct administrative costs)

3. Travel costs for visa processing purposes: All foreign participants funded by any grant agreement resulting from this competition must travel on J-1 visas. Failure to secure a J-1 visa for the foreign participant will preclude charging the participant's cost to the grant agreement. Participants will apply for J-1 visas only after the Office of Citizen Exchanges and the mission Public Affairs Section or consulate have approved their participation in this program. The Office of Citizen Exchanges will issue DS-2019 forms and deliver to foreign program visitors through the mission Public Affairs Section. All J visas for Afghan program visitors must be issued by the U.S. Consulate in Islamabad or Peshawar, so proposals should include costs for potential participants to travel to Kabul to pick up DS-2019 forms and to Pakistan for visa interviews and processing.

Please refer to the Solicitation Package for complete budget guidelines and formatting instructions. Instructions for downloading the Solicitation Package are provided below.

Announcement Title and Number

All correspondence with the Bureau concerning this RFGP should reference the above title and number: ECA/PE/C/NEA-AF-04-41.

To Download a Solicitation Package Via Internet

The entire Solicitation Package (Request for Grant Proposal and Proposal Submission Instructions), may be downloaded from the Bureau's Web site: <http://exchanges.state.gov/education/rfgps>.

Please read all information before downloading. If you are unable to download the Solicitation Package from the Department of State ECA Web site, you may request a copy, which contains required application forms, specific budget instructions, and standard guidelines for proposal preparation, from the Office of Citizen Exchanges.

New OMB Requirement

An OMB policy directive published in the Federal Register on Friday, June 27, 2003, requires that all organizations applying for Federal grants or cooperative agreements must provide a Dun and Bradstreet (D&B) Data Universal Numbering System (DUNS) number when applying on or after October 1, 2003. The complete OMB policy directive can be referenced at http://www.whitehouse.gov/omb/fedreg/062703_grant_identifier.pdf. Please also visit the ECA Web site at http://exchanges.state.gov/education/rfgps/menu.hum for additional information on how to comply with this new directive.

FOR FURTHER INFORMATION CONTACT: The Office of Citizen Exchanges, ECA/PE/C/NEA—AF, U.S. Department of State, 301 Fourth St., SW., Room 216, Washington, DC 20547, Attention: Katherine Van de Vate or Thomas Johnston; Telephone number: 202/619-5320; fax number: 202/619-4350; Internet e-mail address: vandevatek@pd.state.gov or tjohnsto@pd.state.gov.

Organizations planning to submit proposals are encouraged to contact the program office for consultation. Before doing so, applicants should read the complete Federal Register announcement and be prepared to discuss a concrete concept specific to the guidelines set forth in this request for grant proposals (RFGP). Once the RFGP deadline has passed, Bureau staff may not discuss this competition with applicants until the proposal review process has been completed.

Shipment and Deadline for Proposals

Important Note: The deadline for this competition is Friday, February 6, 2004. In light of recent events and heightened security measures, proposal submissions must be made via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadline are ineligible for consideration under this competition. It is each applicant's responsibility to ensure that each package is marked with a legible tracking number and to monitor/confirm delivery to ECA via the Internet. Delivery of proposal packages may not be made via local courier service or in person for this competition. Faxed documents will not be accepted at any time. Only proposals submitted as stated above will be considered.

Applicants must follow all instructions in the Solicitation Package. The original and 10 copies of the proposal should be sent to: U.S. Department of State, SA-44, Bureau of Educational and Cultural Affairs, Ref.: ECA/PE/C/NEA-AF-04-41, Program Management, ECA/EX/PM, Room 534, 301 Fourth St., SW., Washington, DC 20547.

Applicants must also submit the “Executive Summary,” “Proposal Narrative,” and “Budget” sections of the proposal in text (.txt) format on a PC-formatted disk. ECA will transmit these files electronically to the Public Affairs Sections of the relevant U.S. Embassies for review. Once the deadline for submission has passed, Bureau staff may not discuss this competition in any way with applicants until the proposal review process has been completed.

Diversity, Freedom and Democracy Guidelines

Pursuant to ECA's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the Program Office, as well as by Public Affairs Section Kabul, and the Global Issues Bureau Office of International Women's Issues on behalf of the US-Afghan Women's Council. Eligible proposals will be forwarded to panels of State Department officers for advisory review. Proposals may also be reviewed by the Office of the Legal Advisor or by other Department elements. Final funding decisions are at the discretion of the Department of State's Assistant Secretary for Educational and Cultural Affairs. Final technical authority for assistance awards (grants or cooperative agreements) resides with the Bureau's Grants Officer.

Review Criteria

Technically eligible applications will be competitively reviewed according to the criteria stated below. These criteria are not rank-ordered and all carry equal weight in proposal evaluation.

1. Quality of Program Idea: Proposals should be substantive, well thought-out, focused on issues of demonstrable relevance to all proposed participants, and responsive, in general, to the exchange suggestions and guidelines described above.

2. Implementation Plan and Ability to Achieve Objectives: A detailed project implementation plan should establish a clear and logical connection between the interest, the expertise, and the logistic capacity of the applicant and the objectives to be achieved. The proposal should discuss, in concrete terms, how the institution plans to achieve the objectives. Institutional resources—including personnel—assigned to the project should be adequate and appropriate. The substance of workshops and site visits should be included as an attachment, and the responsibilities of U.S. participants and in-country partners should be clearly described.

3. Institution's Record/Ability: Proposals should include an institutional record of successful exchange programs, with reference to responsible fiscal management and full compliance with reporting requirements.

4. Cost Effectiveness and Cost Sharing: Administrative costs should be kept to a minimum. Proposals should maximize cost sharing through in-cash and in-kind contributions from the U.S. and partner organization(s). Proposals which clearly demonstrate significant cost-sharing—with 50% of the amount requested from ECA as the preferred target—will be judged more competitive.

5. Program Evaluation: Proposals must include a plan and methodology to evaluate the program's successes and challenges. The evaluation plan should show a clear link between program objectives and expected outcomes, and should include a brief description of performance indicators and measurement tools. A draft questionnaire for evaluation purposes may be attached to support the proposal.

6. Support of Diversity: Proposals should demonstrate substantive support of ECA's policy on diversity. Program content (orientation, evaluation, program sessions, resource materials, follow-on activities) and program administration (selection process, orientation, evaluation) should address diversity in a comprehensive and relevant manner. Applicants should refer to ECA's Diversity, Freedom and Democracy Guidelines on page four of the Proposal Submission Instructions (PSI).

Authority

Overall grant-making authority for this program is contained in the Mutual Educational and Cultural Exchange Act of 1961, Public Law 87-256, as amended, also known as the Fulbright-Hays Act. The purpose of the Act is “to enable the Government of the United States to increase mutual understanding between the people of the United States and the people of other countries; to strengthen the ties which unite us with other nations by demonstrating the educational and cultural interests, developments, and achievements of the people of the United States and other nations and thus to assist in the development of friendly, sympathetic and peaceful relations between the United States and other countries of the world.”

Notice

The terms and conditions published in this RFGP are binding and may not be modified by any Bureau representative. Explanatory information provided by the Bureau or program officers that contradicts published language will not be binding. Issuance of the RFGP does not constitute an award commitment on the part of the U.S. Government. The Bureau reserves the right to reduce, revise, or increase proposal budgets in accordance with the needs of the program and the availability of funds. Awards made will be subject to periodic reporting and evaluation requirements. Organizations will be expected to cooperate with the Bureau in evaluating their programs under the principles of the Government Performance and Results Act (GPRA) of 1993, which requires federal agencies to measure and report on the results of their programs and activities.

Notification

Final awards cannot be made until funds have been appropriated by Congress, allocated and committed through internal Bureau procedures.

Dated: December 2, 2003.
C. Miller Crouch,
Principal Deputy Assistant Secretary, Bureau of Educational and Cultural Affairs, Department of State.

[FR Doc. 03-30616 Filed 12-10-03; 8:45 am]

BILLING CODE 4710-05-P